DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 8, 2002.

Interested persons are invited to submit written comments regarding the subject matter of the investigations to the Director, Division of Trade Adjustment Assistance, at the address shown below, not later than August 8, 2002.

The petitions filed in this case are available for inspection at the Office of the Director, Division of Trade Adjustment Assistance, Employment and Training Administration, U.S. Department of Labor, Room C-5311, 200 Constitution Avenue, NW., Washington, DC 20210.

Signed at Washington, DC, this 8th day of July, 2002.
Edward A. Tomchick,
Director, Division of Trade Adjustment Assistance.

Appendix
[Petitions instituted on 07/08/2002]
TA-W | Subject firm (petitioners) | Location | Date of petition | Product(s)
41,775 | Husscy Copper (Wkrs) | Lectsdale, PA | 03/21/2002 | Copper Sheets and Strips.
41,776 | Worthington Steel ( ) | Malvern, PA | 05/02/2002 | Nickel Strip Steel.
41,777 | Patterson Drilling (Wkrs) | Snyder, OH | 04/29/2002 | Crude Oil.
41,778 | Robert Bosch (UAW) | Ashland, OH | 04/30/2002 | Braking Systems.
41,779 | Robert Bosch (Wkrs) | Lithia Springs, GA | 04/26/2002 | Alternators and Starters.
41,780 | Motorola, Inc. (Co.) | Plantation, FL | 04/18/2002 | Two-Way Radios.
41,781 | Turfer Sportswear (Wkrs) | Woonsocket, RI | 06/28/2002 | Sportswear.
41,782 | Brach Confections (IBT) | Chicago, IL | 06/04/2002 | Candy.
41,783 | Oxford Industries (Wkrs) | New York, NY | 03/25/2002 | Women Clothing.
41,784 | Doutt Tool (Co.) | Venango, PA | 06/19/2002 | Machine Parts.
41,785 | Cairn Studio (Co.) | Mooresville, NC | 06/13/2002 | Art Reproductions.
41,786 | National Textiles (Wkrs) | Winston Salem, NC | 06/20/2002 | Knit Fabrics.
41,787 | Strattec Security (Co.) | Milwaukee, WI | 06/19/2002 | Mechanical Locks.
41,788 | Johnson Control (Co.) | Lapeer, MI | 06/19/2002 | Chevy Blazers and Pickup Parts.
41,789 | General Electric (IUE) | Murfreesboro, TN | 06/19/2002 | Washington Machine Motors.
41,790 | Fleetwood Homes of Lumber (Wkrs) | Lumberton, NC | 06/20/2002 | Homes.
41,791 | Neuroscan, Inc. (Wkrs) | El Paso, TX | 06/18/2002 | Medical Research Equipment.
41,792 | JB Tool and Machine (Wkrs) | Wapakoneta, OH | 06/17/2002 | TV Frames.
41,793 | General Cable (UE) | Sanger, CA | 06/24/2002 | Wire and Cable.
41,794 | Sunbeam Corporation (Wkrs) | Hattiesburg, MS | 06/06/2002 | Household Appliances.
41,795 | Edward Vogt Value (Wkrs) | Jeffersonville, IN | 06/26/2002 | Valves and Fittings.
41,796 | Tredegar Film Products (Wkrs) | Carbon Dale, PA | 3/18/2002 | Breathable Film.
41,797 | Lewiston Shoe (Co.) | Lewiston, ME | 06/27/2002 | Shoe Machinery.
41,798 | Exide (IBEW) | Kankakee, IL | 06/04/2002 | Absolyte II Technology.
41,799 | General Electric Industry (Wkrs) | Salem, VA | 06/20/2002 | Turbine Control Panels.
41,800 | Flextronics Enclosure (Co.) | New Braunfels, TX | 06/18/2002 | Model, Metal Stamping, Electronic Assemb.
41,801 | Bard Endoscopic Tech (Co.) | Mentor, OH | 05/29/2002 | Gastrointestinal Medical Devices.
41,802 | U.S. Conec (Wkrs) | Hickory, NC | 06/17/2002 | Fiber Optics.
41,803 | Copeland Corp. (Wkrs) | Ava, MO | 06/12/2002 | Air Conditioner.
41,804 | Premier Turbines (Wkrs) | Independence, KS | 06/24/2002 | Air Craft Engines.
41,805 | Schneider Automation (Co.) | North Andover, MA | 07/01/2002 | Control Equipment.
41,806 | Bethel Furniture Stock (Co.) | Bethel, ME | 06/20/2002 | Wood Components.
41,807 | North American Refractori (Wkrs) | Pittsburgh, PA | 03/12/2002 | Ladle Slide Gate Components.

[FR Doc. 02-19100 Filed 7-26-02; 8:45 am]

BILLING CODE 4510-30-M